DEPARTMENT OF THE TREASURY

Senior Executive Service; Legal Division Performance Review Board

AGENCY: Department of the Treasury.

ACTION: Notice of members of the Legal Division Performance Review Board (PRB).

SUMMARY: Pursuant to 5 U.S.C. 4314(c)(4), this notice announces the appointment of members of the Legal Division PRB. The purpose of this Board is to review and make recommendations concerning proposed performance appraisals, ratings, bonuses, and other appropriate personnel actions for incumbents of SES positions in the Legal Division.

DATES: Effective Date: October 13, 2015.

FOR FURTHER INFORMATION CONTACT: Office of the General Counsel, Department of the Treasury, 1500 Pennsylvania Avenue NW, Room 3000, Washington, DC 20220, Telephone: (202) 622-0283 (this is not a toll-free number).

SUPPLEMENTARY INFORMATION:

Composition of Legal Division PRB

The Board shall consist of at least three members. In the case of an appraisal of a career appointee, more than half the members shall consist of career appointees. Composition of the specific PRBs will be determined on an ad hoc basis from among the individuals listed in this notice.

The names and titles of the PRB members are as follows: Paul Ahern, Assistant General Counsel (Enforcement & Intelligence); Peter A. Bieger, Assistant General Counsel (Banking and Finance); Himamauli Das, Assistant General Counsel (International Affairs); Eric Froman, Deputy Assistant General Counsel (Financial Stability Oversight Council); Anthony Gledhill, Chief Counsel, Alcohol Tobacco, Tax, and Trade Bureau; Rochelle F. Granat, Assistant General Counsel (General Law, Ethics and Regulation); Carlton Greene, Chief Counsel, Financial Crimes Enforcement Network; Laura Hildner, Deputy General Counsel; Elizabeth Horton, Deputy Assistant General Counsel (Ethics); Mark S. Kaizen, Associate Chief Counsel (General Legal Services), Internal Revenue Service; Jeffrey Klein, Deputy Assistant General Counsel (International Affairs); Steven D. Laughton, Deputy Assistant General Counsel (Banking and Finance); Robert Neis, Benefits Tax Counsel; Douglas Poms, Deputy International Tax Counsel; Sidney Rocke, Chief Counsel, Bureau of Engraving and Printing; Danielle Rolfes, International Tax Counsel; Bradley Smith, Chief Counsel, Office of Foreign Assets Control; Brian Sonfield, Deputy Assistant General Counsel (General Law and Regulation); Dustin M. Starbuck, Associate Chief Counsel (Finance and Management), Internal Revenue Service; Thomas West, Tax Legislative Counsel and; Paul Wolfteich, Deputy Chief Counsel, Bureau of the Fiscal Service.

Dated: October 6, 2015.
Priya R. Aiyar,
Acting General Counsel.

[FR Doc. 2015-26020 Filed 10-9-15; 8:45 am]

BILLING CODE 4810-25-P